DEPARTMENT OF HOMELAND SECURITY

U.S. Customs and Border Protection

Accreditation and Approval of Thionville Surveying Company, Inc., (Harahan, LA) as a Commercial Gauger and Laboratory

AGENCY: U.S. Customs and Border Protection, Department of Homeland Security.

ACTION: Notice of accreditation and approval of Thionville Surveying Company, Inc., (Harahan, LA), as a commercial gauger and laboratory.

SUMMARY: Notice is hereby given, pursuant to CBP regulations, that Thionville Surveying Company, Inc., (Harahan, LA), has been approved to gauge animal and vegetable oils and accredited to test certain animal and vegetable oils for customs purposes for the next three years as of June 14, 2017.

DATES: Thionville Surveying Company, Inc., (Harahan, LA) was approved and accredited as a commercial gauger and laboratory as of June 14, 2017. The next triennial inspection date will be scheduled for June 2020.

FOR FURTHER INFORMATION CONTACT: Melanie A. Glass, Laboratories and Scientific Services, U.S. Customs and Border Protection, 1300 Pennsylvania Avenue NW, Suite 1500N, Washington, DC 20229, tel. 202-344-1060.

SUPPLEMENTARY INFORMATION: Notice is hereby given pursuant to 19 CFR 151.12 and 19 CFR 151.13, that Thionville Surveying Company, Inc., 5440 Pepsi Street, Harahan, LA 70123, has been approved to gauge animal and vegetable oils and accredited to test certain animal and vegetable oils for customs purposes, in accordance with the provisions of 19 CFR 151.12 and 19 CFR 151.13.

Thionville Surveying Company, Inc., (Harahan, LA) is approved for the following gauging procedures for animal and vegetable oils per the National Institute of Oilseed Products (NIOP) standards:

Method | Title
NIOP 5.10.5 | Weight Determination/Gauging.
ISO 5555 | Animal and vegetable fats and oils—Sampling.

Thionville Surveying Company, Inc., (Harahan, LA) is accredited for the following laboratory analysis procedures and methods for certain animal and vegetable oils set forth by the U.S. Customs and Border Protection Laboratory Methods (CBPL), the International Standards Organization (ISO), and the American Oil Chemists' Society (AOCS):

CBPL No. | Method | Title
15-02 | AOCS Ca 5a-40 | Free Fatty Acids.
15-12 | AOCS Ce 1h-05 | Determination of cis-, trans-, Saturated, Monounsaturated and Polyunsaturated Fatty Acids in Vegetable or Non-Ruminant Animal Oils and Fats by Capillary GLC.
27-48 | ASTM D-4052 | Standard Test Method for Density and Relative Density of Liquids by Digital Density Meter.
33-08 | USP 621 | Chromatography.

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

Dated: September 7, 2018.
Dave Fluty,
Executive Director, Laboratories and Scientific Services Directorate.

[FR Doc. 2018-20177 Filed 9-14-18; 8:45 am]

BILLING CODE 9111-14-P